DEPARTMENT OF ENERGY

Federal Energy Regulatory Commission

[Docket No. RP97-288-027]

Transwestern Pipeline Company; Notice of Negotiated Rate

October 2, 2002.

Take notice that on September 30, 2002, Transwestern Pipeline Company (Transwestern) tendered for filing as part of its FERC Gas Tariff, Second Revised Volume No. 1, Eighteenth Revised Sheet No. 5B.05; Tenth Revised Sheet No. 5B.07; Seventh Revised Sheet No. 5B.08; and Second Revised Sheet No. 5B.12, to become effective October 1, 2002:

Transwestern states that the above sheets are being filed to implement a specific negotiated rate agreement with PNM Gas Services, to reflect a negotiated rate calculation change with Astra Power LLC, and to reflect the permanent capacity release by USGT/Aguila to BP Energy, in accordance with the Commission's Policy Statement on Alternatives to Traditional Cost-of-Service Ratemaking for Natural Gas Pipelines. Transwestern states that the above referenced tariff sheets have been revised to reflect the new negotiated rate contract information.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's Web site under the “e-Filing” link.

Magalie R. Salas,
Secretary.

[FR Doc. 02-25560 Filed 10-7-02; 8:45 am]

BILLING CODE 6717-01-P